DEPARTMENT OF DEFENSE

Department of the Air Force

U.S. Air Force Scientific Advisory Board; Notice of Meeting

AGENCY: Department of the Air Force, U.S. Air Force Scientific Advisory Board.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) quarterly meeting will take place on 9 April 2013 at the Eubank Conference Center on Barksdale AFB, LA. The SAB will meet 7:45 a.m.-12:45 p.m. with all sessions closed to the public.

The purpose of this quarterly meeting is to review the status of the FY13 SAB studies directed by the Secretary of the Air Force: countering electro-optical and infrared targeting system threats to our aircraft, disaggregation of satellite mission applications, and communicating in a contested environment. The SAB will receive a presentation on the mission of Air Force Global Strike Command, the host for the SAB's Spring Board Meeting. This board meeting will also include the publication status of the FY12 studies, the latest updates on the ongoing study outbriefs, as well as discussion of the SAB's review of Air Force Research Laboratory (AFRL) science and technology investments. The remaining FY13 Board schedule and internal restructuring options will also be discussed.

In accordance with 5 U.S.C. 552b, as amended, and 41 CFR 102-3.155, this meeting of the United States Air Force Scientific Advisory Board will be closed to the public because it will involve information and matters covered by sections 5 U.S.C. 552b(c)(1) and (2).

Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col Derek Lincoln, 240-612-5502, United States Air Force Scientific Advisory Board, 1500 West Perimeter Road, Ste. #3300, Joint Base Andrews, MD 20762, Derek.Lincoln@pentagon.af.mil.

Henry Williams Jr,
Acting Air Force Federal Register Liaison Officer.

[FR Doc. 2013-06781 Filed 3-25-13; 8:45 am]

BILLING CODE 5001-10-P